DEPARTMENT OF HOMELAND SECURITY

Transportation Security Administration

[Docket No. TSA-2011-0008]

Aviation Security Advisory Committee Charter Renewal and Request for Applicants

AGENCY: Transportation Security Administration, DHS.

ACTION: Committee Management; Notice of Charter Renewal and Request for Applicants.

SUMMARY: The Transportation Security Administration (TSA) announces the renewal of the charter for the Aviation Security Advisory Committee (ASAC). The Secretary of Homeland Security has determined that the ASAC is necessary and in the public interest in connection with the performance of duties of TSA. This determination follows consultation with the Committee Management Secretariat, General Services Administration, who is responsible for monitoring and reporting executive branch compliance with the Federal Advisory Committee Act (FACA).

DATES: Submit applications for membership and comments by June 24, 2013.

ADDRESSES: You may submit applications for membership as stated in the Aviation Security Advisory Committee Charter Renewal section below. Comments, identified by the TSA docket number to this action, may be submitted to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue SE., West Building Ground Floor, Room W12-140, Washington, DC 20590-0001; fax (202) 493-2251. The Department of Transportation (DOT), which maintains and processes TSA's official regulatory dockets, will scan the submission and post it to FDMS.

See SUPPLEMENTARY INFORMATION for format and other information about comment submissions.

FOR FURTHER INFORMATION CONTACT: Dean Walter, ASAC Designated Federal Officer, Transportation Security Administration (TSA-28), 601 12th St. South, Arlington, VA 20598-4028, Dean.Walter@dhs.gov, 571-227-2645.

SUPPLEMENTARY INFORMATION:

Comments Invited

TSA invites feedback on this action by submitting written comments, data or views. See ADDRESSES above for information on where to submit comments.

Please identify the docket number at the beginning of your comments. TSA encourages commenters to provide their names and addresses. Please submit your comments and material by only one method. If you submit comments by mail or delivery, submit them in an unbound format, no larger than 8.5 by 11 inches, suitable for copying and electronic filing.

TSA will file all comments to our docket address, as well as items sent to the address or email under FOR FURTHER INFORMATION CONTACT, in the public docket, except for comments containing confidential information and sensitive security information (SSI).¹ Should you wish your personally identifiable information redacted prior to filing in the docket, please so state. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the action. Comments containing this type of information should be appropriately marked as containing such information and submitted by mail to the address listed in FOR FURTHER INFORMATION CONTACT section.

TSA will not place comments containing SSI in the public docket and will handle them in accordance with applicable safeguards and restrictions on access. TSA will hold documents containing SSI, confidential business information, or trade secrets in a separate file to which the public does not have access, and place a note in the public docket explaining that commenters have submitted such documents. TSA may include a redacted version of the comment in the public docket. If an individual requests to examine or copy information that is not in the public docket, TSA will treat it as any other request under the Freedom of Information Act (FOIA) (5 U.S.C. 552) and the Department of Homeland Security's (DHS') FOIA regulation found in 6 CFR part 5.

Reviewing Comments in the Docket

Please be aware that anyone is able to search the electronic form of all comments in any of our dockets by the name of the individual who submitted the comment (or signed the comment, if an association, business, labor union, etc., submitted the comment). You may review the applicable Privacy Act Statement published in the Federal Register on April 11, 2000 (65 FR 19477), or you may visit http://DocketInfo.dot.gov.

You may review TSA's electronic public docket on the Internet at http://www.regulations.gov. In addition, DOT's Docket Management Facility provides a physical facility, staff, equipment, and assistance to the public. To obtain assistance or to review comments in TSA's public docket, you may visit this facility between 9:00 a.m. to 5:00 p.m., Monday through Friday, excluding legal holidays, or call (202) 366-9826. This docket operations facility is located in the West Building Ground Floor, Room W12-140 at 1200 New Jersey Avenue SE., Washington, DC 20590.

Availability of Document

You can get an electronic copy using the Internet by—

(1) Searching the electronic Federal Docket Management System (FDMS) Web page at http://www.regulations.gov;

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section. Make sure to identify the docket number of this action.

Background

ASAC is a committee composed of private sector organizations that was chartered in 1989 by the Federal Aviation Administration in the wake of the crash and destruction of Pan American World Airways Flight 103 in 1988 over Lockerbie, Scotland by a terrorist bomb. On November 19, 2001, the Aviation and Transportation Security Act (ATSA) was signed into law, which among other things established the Transportation Security Administration (TSA) and transferred to it the responsibility for civil aviation security. Accordingly, sponsorship of ASAC was also transferred to TSA. Since that time TSA has taken steps to focus the committee's efforts in directions that are relevant and useful to TSA's post-September 11 mission.

The Aviation Security Advisory Committee Charter Renewal

The charter renewal and use of ASAC are determined to be in the public interest in connection with the performance of duties imposed on TSA by law as follows:

Name of Committee: Aviation Security Advisory Committee.

Purpose and Objective: ASAC is being renewed in accordance with the provisions of FACA, 5 U.S.C. App. (Pub. L. 92-463). ASAC's mission is to examine areas of civil aviation security as tasked by TSA with the aim of addressing current issues and/or developing recommendations for improvements to civil aviation security methods, equipment, and processes. The committee will provide advice and recommendations for improving aviation security measures to the Administrator of TSA. The committee will meet at least twice each year, usually in the Washington, DC metropolitan area, but may meet more often as the need arises.

Members are recommended for appointment by the Administrator of TSA and appointed by and serve at the pleasure of the Secretary of the Homeland Security. Members serve at their own expense and receive no salary, reimbursement of travel expenses or other compensation from the Federal Government. TSA retains authority to review the participation of any ASAC member and to recommend changes for cause at any time.

Balanced Membership Plans: The ASAC will be composed of individual members representing private sector organizations of key constituencies affected by aviation security requirements. The membership categories are:

• Victims of Terrorist Acts Against Aviation

• Law Enforcement and Security Experts

• Aviation Consumer Advocates

• Airport Tenants and General Aviation

• Airport Operators

• Airline Management

• Airline Labor

• Aircraft and Security Equipment Manufacturers

• Air Cargo

ASAC does not have a specific number of members allocated to any membership category and the number of members in a category may change to fit the needs of the Committee. However, all membership categories will be represented. Members shall serve as representatives and speak on behalf of their respective organizations and will not be appointed as Special Government Employees as defined in 18 U.S.C. 202(a).

Membership Appointment Criteria: Individuals will be appointed based on the following criteria: (1) Not registered as a Federal Lobbyist per Presidential Memorandum—Lobbyists on Agency Boards and Commissions, dated June 18, 2010, and has not served in such a role for a two-year period prior to appointment; (2) background, experience, and position support one of the membership categories (SEE Balanced Membership Plans section); and (3) represent a significant portion of the constituency within a membership category (SEE Balanced Membership Plans section).

Duration: Continuing.

Responsible TSA Official: Dean Walter, ASAC Designated Federal Officer, Transportation Security Administration (TSA-28), 601 South 12th St., Arlington, VA 20598-4028, Dean.Walter@dhs.gov, 571-227-2645.

Applying for Appointment: Qualified individuals interested in serving on this committee are invited to apply to TSA. Please email your resume to the Responsible TSA Official noted above by June 24, 2013. Applicants will be selected for appointment based on the criteria stated in the Membership Appointment Criteria section above.

Dated: June 5, 2013.
John P. Sammon,
Assistant Administrator, Security Policy and Industry Engagement.

[FR Doc. 2013-13713 Filed 6-10-13; 8:45 am]

BILLING CODE 9110-05-P